NUCLEAR REGULATORY COMMISSION

Sunshine Federal Register Notice

Agency Holding the Meetings: Nuclear Regulatory Commission.

Dates: Weeks of May 12, 19, 26, June 2, 9, 16, 2008.

Place: Commissioners' Conference Room, 11555 Rockville Pike, Rockville, Maryland.

Status: Public and Closed.

Week of May 12, 2008

Wednesday, May 14, 2008

11 a.m. Discussion of Security Issues (Closed—Ex. 1).

Friday, May 16, 2008

8:55 a.m.

Affirmation Session (Public Meeting) (Tentative).

a. AmerGen Energy Company, LLC (Oyster Creek Nuclear Generating Station), Docket No. 50-219-LR, Citizens' Petition for Review of LBP-07-17 and Other Interlocutory Decisions in the Oyster Creek Proceeding (Tentative).

b. Oyster Creek, Indian Point, Pilgrim, and Vermont Yankee License Renewals, Docket Nos. 50-219-LR, 50-247-LR, 50-286-LR, 50-293-LR, 50-271-LR, Petition to Suspend Proceedings (Tentative).

c. Entergy Nuclear Generation Co. and Entergy Nuclear Operations, Inc. (Pilgrim Nuclear Power Station), Docket No. 50-293-LR—Entergy's Request for Guidance on the First Circuit's Administrative Stay (Tentative).

This meeting will be webcast live at the Web address— http://www.nrc.gov.

9 a.m.

Briefing on NRC Infrastructure (Public Meeting), (Contact: Peter Rabideau, 301 415-7323).

This meeting will be webcast live at the Web address— http://www.nrc.gov.

Week of May 19, 2008—Tentative

There are no meetings scheduled for the Week of May 19, 2008.

Week of May 26, 2008—Tentative

Tuesday, May 27, 2008

1:30 p.m.

NRC All Hands Meeting (Public Meeting), Marriott Bethesda North Hotel, 5701 Marinelli Road, Rockville, MD 20852.

Wednesday, May 28, 2008

9:30 a.m.

Briefing on Equal Employment Opportunity (EEO) and Workforce Planning (Public Meeting) (Contact: Kristin Davis, 301 492-2266).

This meeting will be webcast live at the Web address— http://www.nrc.gov.

Week of June 2, 2008—Tentative

Wednesday, June 4, 2008

9:30 a.m.

Briefing on Results of the Agency Action Review Meeting (AARM) (Public Meeting) (Contact: Shaun Anderson, 301 415-2039).

This meeting will be webcast live at the Web address— http://www.nrc.gov.

Thursday, June 5, 2008

1:30 p.m.

Meeting with Advisory Committee on Reactor Safeguards (ACRS) (Public Meeting) (Contact: Tanny Santos, 301 415-7270).

This meeting will be webcast live at the Web address— http://www.nrc.gov.

Week of June 9, 2008—Tentative

There are no meetings scheduled for the Week of June 9, 2008.

Week of June 16, 2008—Tentative

There are no meetings scheduled for the Week of June 16, 2008.

* * * * *

* The schedule for Commission meetings is subject to change on short notice. To verify the status of meetings, call (recording)—(301) 415-1292. Contact person for more information: Michelle Schroll, (301) 415-1662.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 8, 2008.
Rochelle C. Bavol,
Office of the Secretary.

[FR Doc. 08-1255 Filed 5-9-08; 10:35 am]

BILLING CODE 7590-01-P